DEPARTMENT OF JUSTICE

Office of Justice Programs

[OMB Number 1121-NEW]

Agency Information Collection Agencies: New Collection; Comments Requested

ACTION: 60-Day notice of information collection under review.

The Department of Justice, Office of Justice Programs, Bureau of Justice Statistics, will be submitting the following information collection request for review and approval in accordance with the Paperwork Reduction Act of 1995. The proposed information collection is published to obtain comments from the public and affected agencies. Comments are encouraged and will be accepted for “sixty days” until May 25, 2012. This process is conducted in accordance with 5 CFR 1320.10.

If you have additional comments, especially on the estimated public burden or associated response time, suggestions, or need a copy of the proposed information collection instrument with instructions or additional information, please contact: Ron Malega, 202-353-0487, Bureau of Justice Statistics, Office of Justice Programs, Department of Justice, 810 Seventh Street NW., Washington DC 20531 or Ronald.Malega@usdoj.gov.

Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of collection of information on those who are to respond, including through the use of appropriate automated, electronic, mechanical, or other technological collection techniques or other forms of information technology, e.g., permitting electronic submission of responses.

Overview of this information:

1. Type of information collection: New data collection, Census of Problem-Solving Courts (CPSC), 2012.

2. The title of the form/collection: Census of Problem-Solving Courts or CPSC 2012.

3. The agency form number, if any, and the applicable component of the Department sponsoring the collection: The form labels are CPSC, Bureau of Justice Statistics, Office of Justice Programs, U.S. Department of Justice.

4. Affected public who will be asked or required to respond, as well as a brief abstract: Problem-solving courts at all levels of government. Abstract: The Bureau of Justice Statistics (BJS) proposes to implement a Census of Problem-Solving Courts (CPSC). Problem-solving courts target defendants who have ongoing social and/or psychological conditions that underlie their repeated contact with the criminal justice system. Most of the existing information about problem-solving courts (PSC) consists of court evaluations or outcome analyses. No prior census of these courts has been conducted to date despite the substantial proliferation of such courts during the past thirty years. Hence, the CPSC will allow BJS to provide national level information on problem-solving courts and case processing statistics. The CPSC is designed to provide BJS and other interested stakeholders with the first systematic empirical information on problem-solving courts. A goal of the census is to obtain information on problem-solving court operations, staffing, administration, and to generate accurate and reliable aggregate statistics on offenders who enter problem-solving court programs. Information will be collected for the most recent 12-month period in 2012. The CPSC will collect information on the following categories:

a. Court Operations and Staffing

i. Provide the number of problem-solving courts by type (e.g., mental health, drug, etc.),

ii. Determine PSCs level of government operations (e.g., local, state, etc.), court jurisdiction (e.g., limited, general, other) and intake of felony, misdemeanor, or status offenses,

iii. Court session frequency,

iv. Number of full- and part-time staff members currently employed by PSCs.

b. Funding: Types and prevalence of PSC funding (e.g., local government budget, state budget, etc.)

c. Commonly Used Services:

i. Count the types and prevalence of offender/victim services (e.g., anger management), counseling or treatment services (e.g., outpatient mental health treatment), and general supportive services (e.g., life skills)

d. Participant participation

i. Participant inclusionary and exclusionary factors,

ii. Participant point of entry (e.g. pre-plea, post-plea/pre-sentence, etc.)

iii. Case closure: Benefits of successful participation in PSC program (e.g., case dismissal).

e. Capacity and Enrollment

i. Design Capacity: Total number of active participants PSC can manage at any one time,

ii. Current number of active participants.

f. Data Collection Practices:

i. Use of automated case management systems,

ii. Ability to share case management information with external agencies,

iii. PSCs' ability to track participant outcomes after graduation.

g. Selected PSC Aggregate Participant information:

i. Number of offenders admitted for participation in PSC over a 12 month period,

ii. Number of offender participants exiting program over a 12 month period, including type of exit (e.g., successful program completion),

iii. Percentage of participants by gender over a 12 month period,

iv. Percentage of participants by race/ethnicity over a 12 month period.

5. An Estimate of the Total Number of Respondents and the Amount of Time Estimated for an Average Respondent to Respond: Estimates suggest 3,800 respondents will take part in the Census of Problem-Solving Courts 2012. Based on pilot testing and in-house review, the average (mean) burden for each completed survey is expected to be approximately 30 minutes per respondent. The estimated range of burden for respondents is expected to be between 15 minutes to 1 hour for completion. The following factors were considered when creating the burden estimate: the estimated total number of problem-solving courts, the ability of problem-solving courts to access data, and the type of data capabilities generally found in the field. BJS estimates that nearly all of the approximately 3,800 respondents will fully complete the questionnaire.

6. An Estimate of the Total Public Burden (in hours) Associated with the collection: The estimated public burden associated with this collection is 1,918 hours. It is estimated that respondents will take 30 minutes to complete a questionnaire. The burden hours for collecting respondent data sum to 1,900 hours (3,800 respondents × 0.5 hours = 1,900 hours). In addition to respondents' burden of completing the census questionnaire, the CPSC requires voluntary participation from State Points of Contacts (SPOCs) to develop an initial list of problem-solving court docket contact information. While SPOCs will not complete actual questionnaires, their effort is a necessary first step in identifying the universe of problem-solving courts nationwide. BJS estimates it will take, on average, 20 minutes for each SPOC to provide the requested list of problem-solving courts in their respective state. There are 54 SPOCS (including DC, Guam, Virgin Islands, and Puerto Rico). The total time burden is 18 hours (54 SPOCS × 20 minutes = 18 hours). Therefore the total estimated burden for the entire CPSC 2012 project is 1,918 hours (1,900 hours for respondents + 18 hours for SPOCS = 1,918 hours).

If additional information is required contact: Jerri Murray, Department Clearance Officer, United States Department of Justice, Justice Management Division, Policy and Planning Staff, Two Constitution Square, 145 N Street NE., Room 2E-508, Washington, DC 20530.

Jerri Murray,
Department Clearance Officer, PRA, U.S. Department of Justice.

[FR Doc. 2012-7172 Filed 3-23-12; 8:45 am]

BILLING CODE 4410-18-P